DEPARTMENT OF ENERGY

Federal Energy Regulatory Commission

Combined Notice of Filings #1

Take notice that the Commission received the following electric rate filings:

Docket Numbers: ER19-62-003.

Applicants: OneEnergy Baker Point Solar, LLC.

Description: Compliance filing: Reactive Power Settlement Compliance to be effective 12/1/2018.

Filed Date: 9/26/19.

Accession Number: 20190926-5114.

Comments Due: 5 p.m. ET 10/17/19.

Docket Numbers: ER19-668-001.

Applicants: Energy Center Dover LLC.

Description: Compliance filing: Informational Filing Re Upstream Change in Control and Request for Waiver to be effective N/A.

Filed Date: 9/26/19.

Accession Number: 20190926-5048.

Comments Due: 5 p.m. ET 10/17/19.

Docket Numbers: ER19-2517-001.

Applicants: PJM Interconnection, L.L.C.

Description: Tariff Amendment: Request to Hold Proceeding in Abeyance under Docket No. ER19-2517 to be effective 12/31/9998.

Filed Date: 9/25/19.

Accession Number: 20190925-5131.

Comments Due: 5 p.m. ET 10/16/19.

Docket Numbers: ER19-2529-001.

Applicants: Black Hills Wyoming, LLC.

Description: Tariff Amendment: Response to Staff Letter to be effective 10/2/2019.

Filed Date: 9/26/19.

Accession Number: 20190926-5040.

Comments Due: 5 p.m. ET 10/17/19.

Docket Numbers: ER19-2864-000.

Applicants: Mankato Energy Center, LLC.

Description: § 205(d) Rate Filing: Mankato Amended Reactive Supply Service Tariff Filing to be effective 12/31/9998.

Filed Date: 9/25/19.

Accession Number: 20190925-5124.

Comments Due: 5 p.m. ET 10/16/19.

Docket Numbers: ER19-2865-000.

Applicants: Southwest Power Pool, Inc.

Description: § 205(d) Rate Filing: 1518R18 Arkansas Electric Cooperative Corp NITSA NOA to be effective 9/1/2019.

Filed Date: 9/26/19.

Accession Number: 20190926-5026.

Comments Due: 5 p.m. ET 10/17/19.

Docket Numbers: ER19-2866-000.

Applicants: Midcontinent Independent System Operator, Inc.

Description: § 205(d) Rate Filing: 2019-09-26_Termination of SA 3219 Flying Cow Wind-OTP E&P (J493 J510) to be effective 9/27/2019.

Filed Date: 9/26/19.

Accession Number: 20190926-5038.

Comments Due: 5 p.m. ET 10/17/19.

Docket Numbers: ER19-2867-000.

Applicants: Cameron Ridge, LLC.

Description: § 205(d) Rate Filing: Revised Market-Based Rate Tariff to be effective 9/27/2019.

Filed Date: 9/26/19.

Accession Number: 20190926-5039.

Comments Due: 5 p.m. ET 10/17/19.

Docket Numbers: ER19-2868-000.

Applicants: Cameron Ridge II, LLC.

Description: § 205(d) Rate Filing: Revised Market-Based Rate Tariff to be effective 9/27/2019.

Filed Date: 9/26/19.

Accession Number: 20190926-5041.

Comments Due: 5 p.m. ET 10/17/19.

Docket Numbers: ER19-2869-000.

Applicants: San Gorgonio Westwinds II—Windustries, LLC.

Description: § 205(d) Rate Filing: Revised Market-Based Rate Tariff to be effective 9/27/2019.

Filed Date: 9/26/19.

Accession Number: 20190926-5046.

Comments Due: 5 p.m. ET 10/17/19.

Docket Numbers: ER19-2870-000.

Applicants: Victory Garden Phase IV, LLC.

Description: § 205(d) Rate Filing: Revised Market-Based Rate Tariff to be effective 9/27/2019.

Filed Date: 9/26/19.

Accession Number: 20190926-5049.

Comments Due: 5 p.m. ET 10/17/19.

Docket Numbers: ER19-2871-000.

Applicants: Arizona Public Service Company.

Description: Tariff Cancellation: Rate Schedule No. 98 Cancellation to be effective 12/1/2019.

Filed Date: 9/26/19.

Accession Number: 20190926-5053.

Comments Due: 5 p.m. ET 10/17/19.

Docket Numbers: ER19-2872-000.

Applicants: Pacific Crest Power, LLC.

Description: § 205(d) Rate Filing: Revised Market-Based Rate Tariff to be effective 9/27/2019.

Filed Date: 9/26/19.

Accession Number: 20190926-5075.

Comments Due: 5 p.m. ET 10/17/19.

Docket Numbers: ER19-2873-000.

Applicants: Ridgetop Energy, LLC.

Description: § 205(d) Rate Filing: Revised Market-Based Rate Tariff to be effective 9/27/2019.

Filed Date: 9/26/19.

Accession Number: 20190926-5078.

Comments Due: 5 p.m. ET 10/17/19.

Docket Numbers: ER19-2874-000.

Applicants: San Gorgonio Westwinds II, LLC.

Description: § 205(d) Rate Filing: Revised Market-Based Rate Tariff to be effective 9/27/2019.

Filed Date: 9/26/19.

Accession Number: 20190926-5084.

Comments Due: 5 p.m. ET 10/17/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 26, 2019.
Nathaniel J. Davis, Sr.,
Deputy Secretary.

[FR Doc. 2019-21406 Filed 10-1-19; 8:45 am]

BILLING CODE 6717-01-P